DEPARTMENT OF THE INTERIOR

Bureau of Indian Affairs

[DR.5B814.IA001213]

Revision of Agency Information Collection for Reporting Systems for Public Law 102-477 Demonstration Project

AGENCY: Bureau of Indian Affairs, Interior.

ACTION: Notice of submission to OMB.

SUMMARY: In compliance with the Paperwork Reduction Act of 1995, the Assistant Secretary—Indian Affairs (AS-IA) published a notice announcing the submission of the revised information collection titled “Reporting Systems for Public Law 102-477” to the Office of Management and Budget (OMB) for approval. In response, the AS-IA received several requests to extend the comment period to allow additional time for tribes to review and comment on the revised forms and related materials; therefore, we are providing a new 30-day comment period.

DATES: Submit comments on or before January 12, 2015.

ADDRESSES: You may submit comments on the information collection to the Desk Officer for the Department of the Interior at the Office of Management and Budget, by facsimile to (202) 395-5806 or you may send an email to: OIRA_Submission@omb.eop.gov. Please send a copy of your comments to: Mr. Jack Stevens, Division Chief, Office of Indian Energy and Economic Development, Assistant Secretary—Indian Affairs, 1951 Constitution Avenue NW., MS-20 SIB, Washington, DC 20240; facsimile: (202) 208-4564; email: Jack.Stevens@bia.gov.

FOR FURTHER INFORMATION CONTACT: Mr. Jack Stevens, (202) 208-6764. You may review the information collection request online at http://www.reginfo.gov under “Information Collection Review.” Follow the instructions to review Department of the Interior collections under “Currently under Review” by OMB.

SUPPLEMENTARY INFORMATION:

I. Abstract

On September 26, 2014, we published a notice in the Federal Register (79 FR 57969) announcing the submission of the revised information collection conducted under OMB Control Number 1076-0135, Reporting Systems for Public Law 102-477 Demonstration Project. In response to the notice, we received requests to extend the comment period to allow additional time for tribes to review and comment on the revised forms and related materials. All the related forms and documents to this revision are available for review under the following Web site at http://www.bia.gov/WhoWeAre/AS-IA/ORM/477Forms/index.htm.

There are currently four information collections associated with this OMB Control Number: IA 7701—Narrative Report; IA 7702—Statistical Report; IA 7703—Financial Report; and IA 7703A—Tribal Temporary Assistance for Needy Families (TANF) Financial Report. These forms are included in this request and will continue to be authorized for use until 2017.

The revision reduces the number of forms to two: Statistical Report and Financial Expenditure Report. The previous TANF Financial Report and Financial Report have been combined to create the Financial Expenditure Report, allowing tribes to complete and submit the information on one form. Revisions were made to the Narrative Report and Statistical Report to provide clear instructions and guidance. In addition, a new guidance document, “Function Cost Categories,” has been added for reference.

The new reporting forms (Version 2) will replace the currently approved forms (Version 1) after 2017. To the extent possible, tribes should begin using the new reporting forms (Version 2) as they enter new contracts, but in no case later than the 2017 expiration date. Until then, the BIA will continue to accept either version of the forms to ensure a smooth transition in reporting and to allow time for training and technical assistance.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0135.

Title: Reporting System for Public Law 102-477 Demonstration Project.

Brief Description of Collection: Public Law 102-477 authorized tribal governments to integrate federally-funded employment, training and related services programs into a single, coordinated, comprehensive delivery plan. Interior has made available a single universal format for Statistical Reports for tribal governments to report on integrated activities undertaken within their projects, and a single universal format for Financial Reports for tribal governments to report on all project expenditures. Respondents that participate in Temporary Assistance for Needy Families (TANF) must provide additional information on these forms.

Type of Review: Revision of currently approved collection.

Respondents: Indian tribes participating in Public Law 102-477.

Number of Respondents: 64 on average.

Frequency of Response: Each respondent must supply the information for the Financial Status Report and Public Law 102-477 Demonstration Project Statistical Report once per year.

Estimated Time per Response: Ranges from 2 to 40 hours.

Estimated Total Annual Hour Burden: 4,730 hours.

Dated: December 9, 2014.
Elizabeth K. Appel,
Director, Office of Regulatory Affairs and Collaborative Action—Indian Affairs.

[FR Doc. 2014-29208 Filed 12-11-14; 8:45 am]

BILLING CODE 4310-4M-P